DEPARTMENT OF HOMELAND SECURITY

Coast Guard

33 CFR Parts 100 and 165

[USCG-2004-17636]

Quarterly Listings; Safety Zones, Security Zones, and Special Local Regulations

AGENCY: Cost Guard, DHS.

ACTION: Notice of temporary rules issued.

SUMMARY: This document provides required notice of substantive rules issued by the Coast Guard and temporarily effective between January 1, 2004, and March 31, 2004, that were not published in the Federal Register. This quarterly notice lists temporary local regulations, security zones, and safety zones, all of limited duration and for which timely publication in the Federal Register was not possible.

DATES: This document lists temporary Coast Guard rules that became effective and were terminated between January 1, 2004, and March 31, 2004.

ADDRESSES: The Docket Management Facility maintains the public docket for this notice. Documents indicated in this notice will be available for inspection or copying at the Docket Management Facility, U.S. Department of Transportation, Room PL-401, 400 Seventh Street, SW., Washington, DC 20593-0001 between 9 a.m. and 5 p.m., Monday through Friday, except Federal holidays. You may electronically access the public docket for this notice on the Internet at http://dms.dot.gov.

FOR FURTHER INFORMATION CONTACT: For questions on this notice contact LT Jeff Bray, Office of Regulations and Administrative Law, telephone (202) 267-2830. For questions on viewing, or on submitting material to the docket, contact Andrea M. Jenkins, Program Manager, Docket Operations, telephone 202-366-0271.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these special local regulations, security zones, or safety zones by Coast Guard officials' on-scene prior to any enforcement action. However, the Coast Guard, by law, must publish in the Federal Register notice of substantive rules adopted. To meet this obligation without imposing undue expense on the public, the Coast Guard periodically publishes a list of these temporary special local regulations, security zones and safety zones. Permanent rules are not included in this list because they are published in their entirety in the Federal Register. Temporary rules are also published in their entirety if sufficient time is available to do so before they are placed in effect or terminated. The safety zones, special local regulations and security zones listed in this notice have been exempted from review under Executive Order 12866, Regulatory Planning and Review, because of their emergency nature, or limited scope and temporary effectiveness.

The following rules were placed in effect temporarily during the period from January 1, 2004, through March 31, 2004, unless otherwise indicated.

Dated: April 27, 2004.
S. G. Venckus,
Chief, Office of Regulations and Administrative Law.

District Quarterly Report—1st Quarter 2004
District docket | Location | Type | Effective date
01-04-010 | Portland, ME | Safety Zone | 2/7/2004
01-04-011 | Buzzards Bay, Massachusetts | Safety Zone | 2/5/2004
01-04-028 | Boston, MA | Security Zone | 3/25/2004
05-03-205 | Military Ocean Terminal Sunny Point | Security Zone | 1/13/2004
05-03-215 | Hampton Roads, Virginia | Security Zone | 1/2/2004
05-03-216 | Hampton Roads, Virginia | Security Zone | 1/8/2004
05-04-001 | Hampton Roads, Virginia | Safety Zone | 1/5/2004
05-04-004 | Hampton Roads, Elizabeth River | Safety Zone | 1/6/2004
05-04-005 | Hampton Roads, Virginia | Security Zone | 1/13/2004
05-04-006 | Hampton Roads, Virginia | Security Zone | 1/18/2004
05-04-007 | Hampton Roads, Virginia | Security Zone | 1/22/2004
05-04-008 | Hampton Roads, Virginia | Security Zone | 1/27/2004
05-04-014 | Potomac River, Washington, DC | Security Zone | 1/20/2004
05-04-020 | Maryland and Virginia | Safety Zone | 1/23/2004
05-04-023 | Hampton Roads, Virginia | Security Zone | 1/26/2004
05-04-025 | Hampton Roads, Virginia | Security Zone | 2/7/2004
05-04-026 | Hampton Roads, Virginia | Security Zone | 2/3/2004
05-04-029 | Hampton Roads, Virginia | Security Zone | 2/10/2004
05-04-030 | Hampton Roads, Virginia | Security Zone | 2/14/2004
05-04-031 | Hampton Roads, Virginia | Security Zone | 2/18/2004
05-04-032 | Hampton Roads, Virginia | Security Zone | 2/22/2004
05-04-033 | Hampton Roads, Virginia | Security Zone | 2/27/2004
05-04-034 | Hampton Roads, Virginia | Security Zone | 2/14/2004
05-04-036 | Hampton Roads, Virginia | Security Zone | 2/14/2004
05-04-042 | Hampton Roads, Virginia | Security Zone | 3/3/2004
05-04-044 | Hampton Roads, Virginia | Security Zone | 3/8/2004
05-04-045 | Chesapeake Bay, Hampton Roads, VA | Security Zone | 3/13/2004
05-04-046 | Chesapeake Bay, Hampton Roads, VA | Security Zone | 3/18/2004
05-04-048 | Baltimore, Maryland | Safety Zone | 3/9/2004
05-04-050 | Hampton Roads, VA | Security Zone | 3/17/2004
05-04-056 | Raccoon Creek, New Jersey | Safety Zone | 3/19/2004
07-04-004 | Miami Beach, Miami, FL | Special Local Reg | 2/29/2004
07-04-016 | Miami Beach, FL | Special Local Reg | 3/12/2004
07-04-020 | Port of Miami, Miami, FL | Special Local Reg | 3/12/2004
09-04-002 | Marinette, Wisconsin | Safety Zone | 2/7/2004
09-04-007 | COTP Detroit Zone, Renaissance Center | Security Zone | 3/26/2004
13-04-006 | Blair and Sitcum Waterways, Commencement Bay | Security Zone | 2/14/2004

COTP Quarterly Report—1st Quarter 2004
COTP docket | Location | Type | Effective date
Baltimore 04-001 | Baltimore, Maryland | Safety Zone | 3/6/2004
Charleston 04-018 | Charleston Harbor, Cooper River, SC | Security Zone | 2/5/2004
Charleston 04-034 | Charleston, SC | Safety Zone | 2/28/2004
Corpus Christi 03-007 | Ingleside, TX | Safety Zone | 1/6/2004
Corpus Christi 04-001 | Port Aransas, TX | Safety Zone | 1/21/2004
Guam 04-003 | Glass Breakwater, Guam | Safety Zone | 2/23/2004
Guam 04-004 | Agat Bay, Guam | Safety Zone | 2/23/2004
Guam 04-005 | Outer Apra Harbor, Guam | Safety Zone | 2/18/2004
Jacksonville 04-001 | Indian River, Cocoa, FL | Safety Zone | 2/28/2004
Jacksonville 04-002 | Lake Eustis, Eustis, FL | Safety Zone | 2/28/2004
Louisville 03-035 | Ohio River Mile 374.5-867.5 | Security Zone | 2/24/2004
Louisville 04-001 | Louisville, KY | Security Zone | 2/26/2004
Mobile 03-025 | Pascagoula, MS | Safety Zone | 1/4/2004
Mobile 03-026 | Orange Beach, AL | Safety Zone | 1/11/2004
Mobile 03-028 | Gulfport, MS | Safety Zone | 1/10/2004
Mobile 03-033 | MS, AL, and FL | Security Zone | 1/5/2004
Mobile 03-034 | FL | Security Zone | 1/5/2004
Mobile 04-002 | Pensacola, FL | Safety Zone | 2/6/2004
Mobile 04-003 | Panama City, FL | Safety Zone | 2/14/2004
Mobile 04-004 | Apalachicola Bay, FL | Safety Zone | 3/10/2004
Mobile 04-005 | Pensacola, FL | Safety Zone | 1/23/2004
Mobile 04-006 | Panama City, FL | Safety Zone | 2/18/2004
Mobile 04-007 | Pascagoula, MS | Safety Zone | 3/22/2004
Mobile 04-008 | Panama City, FL | Safety Zone | 3/22/2004
Morgan City 03-007 | New Iberia, LA | Safety Zone | 1/11/2004
Morgan City 03-008 | Amelia, LA | Safety Zone | 1/6/2004
Morgan City 04-002 | Cocodrie, LA | Safety Zone | 1/29/2004
Morgan City 04-003 | Amelia, LA | Safety Zone | 2/6/2004
New Orleans 03-030 | Monroe, LA | Safety Zone | 1/6/2004
New Orleans 03-032 | Columbia, LA | Safety Zone | 1/6/2004
New Orleans 03-033 | New Orleans, LA | Safety Zone | 1/13/2004
New Orleans 03-035 | Head of Passes, LA | Security Zone | 1/23/2004
New Orleans 04-001 | Kenner, LA | Safety Zone | 1/1/2004
New Orleans 04-002 | Metairie, LA | Safety Zone | 1/1/2004
New Orleans 04-003 | Head of Passes, LA | Safety Zone | 1/14/2004
New Orleans 04-004 | New Orleans, LA | Safety Zone | 1/1/2004
New Orleans 04-005 | New Orleans, LA | Safety Zone | 1/29/2004
New Orleans 04-006 | New Orleans, LA | Safety Zone | 2/14/2004
New Orleans 04-007 | New Orleans, LA | Safety Zone | 2/23/2004
Pittsburgh 04-001 | Glendale, WV | Safety Zone | 2/1/2004
Port Arthur 03-024 | Beaumont, TX | Safety Zone | 1/31/2004
Port Arthur 04-001 | Port Arthur, TX | Safety Zone | 1/19/2004
Port Arthur 04-002 | Port Arthur, TX | Safety Zone | 2/22/2004
Port Arthur 04-003 | High Island, TX | Safety Zone | 2/21/2004
San Diego 03-037 | San Diego Bay, San Diego, CA | Security Zone | 1/5/2004
San Diego 04-001 | Lake Havasu, California | Safety Zone | 2/14/2004
San Diego 04-002 | San Diego, CA | Security Zone | 1/12/2004
San Diego 04-003 | San Diego Bay, San Diego, CA | Security Zone | 1/10/2004
San Diego 04-004 | San Diego, California | Security Zone | 1/15/2004
San Diego 04-005 | Lake Havasu, California | Safety Zone | 2/28/2004
San Francisco Bay 04-001 | Mare Island Strait, California | Safety Zone | 2/26/2004
Savannah 03-177 | Savannah River, Savannah, GA | Security Zone | 1/29/2004
Savannah 04-003 | Savannah River, Savannah, GA | Security Zone | 1/1/2004
Savannah 04-006 | Savannah River, Savannah, GA | Security Zone | 1/8/2004
Savannah 04-007 | Savannah River, Savannah, GA | Security Zone | 1/11/2004
Savannah 04-013 | Savannah River, Savannah, GA | Security Zone | 1/24/2004
Savannah 04-028 | Savannah River, Savannah, GA | Security Zone | 2/14/2004
Savannah 04-038 | Savannah River, Savannah, GA | Security Zone | 3/15/2004

[FR Doc. 04-9955 Filed 5-3-04; 8:45 am]

BILLING CODE 4910-15-M